NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 16, 2017. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas requiring special protection. The regulations establish such a permit system to designate Antarctic Specially Protected Areas.

Application Details

Permit Application: 2018-006

1. Applicant: Greg Neri, 9612 Woodland Ridge Dr., Tampa, FL 33637.

Activity for Which Permit Is Requested: Enter Antarctic Specially Protected Area (ASPA). The applicant, an author supported by NSF's Antarctic Artists and Writers Program, would enter ASPAs 121, 155, 157, and 158 to visit the Adelie penguin colony and the Ross Island historic huts. These visits will inform the applicant's writing about the research occurring in and around McMurdo Station and help to establish background materials for his childrens' novel about Antarctic scientists and their work, past and present. The applicant would be escorted by experienced scientists while visiting ASPA 121, Cape Royds, in order to ensure the protection of the penguins and will abide by the management plans of all ASPAs visited. The results of this work are expected to be useful for outreach and education about Antarctica and the scientific research conducted there.

Location: ASPA 121, Cape Royds, Ross Island; ASPA 155, Cape Evans, Ross Island; ASPA 157, Backdoor Bay, Cape Royds, Ross Island; ASPA 158 Hut Point, Ross Island.

Dates: October 18-December 1, 2017.

Permit Application: 2018-009

2. Applicant: Kirsten Carlson, 676 Iana Street, Kailua, HI 96734

Activity for Which Permit Is Requested: Enter Antarctic Specially Protected Area (ASPA). The applicant, an artist supported by NSF's Antarctic Artists and Writers Program, would enter ASPAs 121, 155, 157, and 158 to visit the Adelie penguin colony and the Ross Island historic huts. The applicant would observe, sketch, and photograph the huts and the penguins. The applicant would be escorted by experienced scientists while visiting ASPA 121, Cape Royds, in order to ensure the protection of the penguins and will abide by the management plans of all ASPAs visited. The results of this work are expected to be useful for outreach and education about Antarctica and the scientific research conducted there.

Location: ASPA 121, Cape Royds, Ross Island; ASPA 155, Cape Evans, Ross Island; ASPA 157, Backdoor Bay, Cape Royds, Ross Island; ASPA 158 Hut Point, Ross Island.

Dates: October 20-November 30, 2017.

Nadene G. Kennedy,
Polar Coordination Specialist, Office of Polar Programs.

[FR Doc. 2017-19503 Filed 9-13-17; 8:45 am]

BILLING CODE 7555-01-P